CIVIL RIGHTS COLD CASE RECORDS REVIEW BOARD

[Agency Docket Number: CRCCRRB-2025-0009-N]

Notice of Formal Determination on Records Release

AGENCY: Civil Rights Cold Case Records Review Board.

ACTION: Notice.

SUMMARY: The Civil Rights Cold Case Records Review Board received 679 pages of records from the National Archives and Records Administration (NARA), the Department of Justice, and the Federal Bureau of Investigation (FBI) related to a civil rights cold case incident to which the Review Board assigned the unique identifier 2023-002-001. NARA did not propose any postponements of disclosure. The Department of Justice and the FBI proposed 562 postponements of disclosure. On January 10, 2025, the Review Board approved 267 postponements, requested changes to 25 postponements, and determined that 640 pages in full and 39 pages in part should be publicly disclosed in the Civil Rights Cold Case Records Collection. The Review Board also voted to approve the four postponements pending from incident 2023-002-007. By issuing this notice, the Review Board complies with section 7(c)(4) of the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2023-002-001 | 2024-DOJ-02-0068 through 2024-DOJ-02-0136 | Reject.
2023-002-001 | 2024-DOJ-02-0137 through 2024-DOJ-02-0139 | Approve.
2023-002-001 | 2024-DOJ-02-0140 through 2024-DOJ-02-0142 | Reject.
2023-002-001 | 2024-DOJ-02-0143 | Approve.
2023-002-001 | 2024-DOJ-02-0144 through 2024-DOJ-02-0146 | Reject.
2023-002-001 | 2024-DOJ-02-0147 | Approve.
2023-002-001 | 2024-DOJ-02-0148 and 2024-DOJ-02-0149 | Reject.
2023-002-001 | 2024-DOJ-02-0150 | Approve.
2023-002-001 | 2024-DOJ-02-0151 through 2024-DOJ-02-0153 | Approve.
2023-002-001 | 2024-DOJ-02-0154 | Reject.
2023-002-001 | 2024-DOJ-02-0155 through 2024-DOJ-02-0157 | Approve.
2023-002-001 | 2024-DOJ-02-0158 and 2024-DOJ-02-0159 | Reject.
2023-002-001 | 2024-DOJ-02-0160 through 2024-DOJ-02-0163 | Approve.
2023-002-001 | 2024-DOJ-02-0164 | Reject.
2023-002-001 | 2024-DOJ-02-0165 through 2024-DOJ-02-0168 | Approve.
2023-002-001 | 2024-DOJ-02-0169 | Reject.
2023-002-001 | 2024-DOJ-02-0170 | Approve with changes.
2023-002-001 | 2024-DOJ-02-0171 and 2024-DOJ-02-0172 | Reject.
2023-002-001 | 2024-FBI-02-0146 through 2024-FBI-02-0148 | Reject.
2023-002-001 | 2024-FBI-02-0149 | Approve.
2023-002-001 | 2024-FBI-02-0150 through 2024-FBI-02-0174 | Reject.
2023-002-001 | 2024-FBI-02-0175 through 2024-FBI-02-0178 | Approve.
2023-002-001 | 2024-FBI-02-0179 through 2024-FBI-02-0181 | Reject.
2023-002-001 | 2024-FBI-02-0182 through 2024-FBI-02-0189 | Approve.
2023-002-001 | 2024-FBI-02-0190 through 2024-FBI-02-0229 | Reject.
2023-002-001 | 2024-FBI-02-0230 | Approve.
2023-002-001 | 2024-FBI-02-0231 through 2024-FBI-02-0234 | Reject.
2023-002-001 | 2024-FBI-02-0235 through 2024-FBI-02-0238 | Approve.
2023-002-001 | 2024-FBI-02-0239 and 2024-FBI-02-0240 | Reject.
2023-002-001 | 2024-FBI-02-0241 through 2024-FBI-02-0244 | Approve.
2023-002-001 | 2024-FBI-02-0245 | Reject.
2023-002-001 | 2024-FBI-02-0246 through 2024-FBI-02-0251 | Approve.
2023-002-001 | 2024-FBI-02-0252 | Reject.
2023-002-001 | 2024-FBI-02-0253 | Approve.
2023-002-001 | 2024-FBI-02-0254 | Reject.
2023-002-001 | 2024-FBI-02-0255 through 2024-FBI-02-0268 | Approve.
2023-002-001 | 2024-FBI-02-0269 and 2024-FBI-02-0270 | Reject
2023-002-001 | 2024-FBI-02-0271 through 2024-FBI-02-0273 | Approve.
2023-002-001 | 2024-FBI-02-0274 | Reject.
2023-002-001 | 2024-FBI-02-0275 and 2024-FBI-02-0276 | Approve.
2023-002-001 | 2024-FBI-02-0277 | Reject.
2023-002-001 | 2024-FBI-02-0278 | Approve.
2023-002-001 | 2024-FBI-02-0279 and 2024-FBI-02-0280 | Reject.
2023-002-001 | 2024-FBI-02-0281 and 2024-FBI-02-0282 | Approve.
2023-002-001 | 2024-FBI-02-0283 | Reject.
2023-002-001 | 2024-FBI-02-0284 | Approve.
2023-002-001 | 2024-FBI-02-0285 | Approve with changes.
2023-002-001 | 2024-FBI-02-0286 and 2024-FBI-02-0287 | Approve.
2023-002-001 | 2024-FBI-02-0288 | Reject.
2023-002-001 | 2024-FBI-02-0289 | Approve.
2023-002-001 | 2024-FBI-02-0290 | Reject.
2023-002-001 | 2024-FBI-02-0291 through 2024-FBI-02-0293 | Approve.
2023-002-001 | 2024-FBI-02-0294 and 2024-FBI-02-0295 | Reject.
2023-002-001 | 2024-FBI-02-0296 | Approve.
2023-002-001 | 2024-FBI-02-0297 and 2024-FBI-02-0298 | Approve with changes.
2023-002-001 | 2024-FBI-02-0299 | Reject.
2023-002-001 | 2024-FBI-02-0300 through 2024-FBI-02-0302 | Approve.
2023-002-001 | 2024-FBI-02-0303 | Reject.
2023-002-001 | 2024-FBI-02-0304 | Approve.
2023-002-001 | 2024-FBI-02-0305 | Reject.
2023-002-001 | 2024-FBI-02-0306 through 2024-FBI-02-0308 | Approve.
2023-002-001 | 2024-FBI-02-0309 | Reject.
2023-002-001 | 2024-FBI-02-0310 | Approve.
2023-002-001 | 2024-FBI-02-0311 | Reject.
2023-002-001 | 2024-FBI-02-0312 | Approve with changes.
2023-002-001 | 2024-FBI-02-0313 and 2024-FBI-02-0314 | Approve.
2023-002-001 | 2024-FBI-02-0315 | Reject.
2023-002-001 | 2024-FBI-02-0316 | Approve.
2023-002-001 | 2024-FBI-02-0317 and 2024-FBI-02-0318 | Approve with changes.
2023-002-001 | 2024-FBI-02-0319 through 2024-FBI-02-0324 | Approve.
2023-002-001 | 2024-FBI-02-0325 through 2024-FBI-02-0329 | Reject.
2023-002-001 | 2024-FBI-02-0330 through 2024-FBI-02-0332 | Approve.
2023-002-001 | 2024-FBI-02-0333 | Approve with changes.
2023-002-001 | 2024-FBI-02-0334 | Approve.
2023-002-001 | 2024-FBI-02-0335 and 2024-FBI-02-0336 | Reject.
2023-002-001 | 2024-FBI-02-0337 through 2024-FBI-02-0341 | Approve.
2023-002-001 | 2024-FBI-02-0342 and 2024-FBI-02-0343 | Reject.
2023-002-001 | 2024-FBI-02-0344 | Approve.
2023-002-001 | 2024-FBI-02-0345 | Approve with changes.
2023-002-001 | 2024-FBI-02-0346 | Approve.
2023-002-001 | 2024-FBI-02-0347 through 2024-FBI-02-0349 | Approve with changes.
2023-002-001 | 2024-FBI-02-0350 and 2024-FBI-02-0351 | Approve.
2023-002-001 | 2024-FBI-02-0352 | Reject.
2023-002-001 | 2024-FBI-02-0353 through 2024-FBI-02-0358 | Approve.
2023-002-001 | 2024-FBI-02-0359 | Reject.
2023-002-001 | 2024-FBI-02-0360 and 2024-FBI-02-0361 | Approve.
2023-002-001 | 2024-FBI-02-0362 | Approve with changes.
2023-002-001 | 2024-FBI-02-0363 through 2024-FBI-02-0365 | Approve.
2023-002-001 | 2024-FBI-02-0366 and 2024-FBI-02-0367 | Reject.
2023-002-001 | 2024-FBI-02-0368 and 2024-FBI-02-0369 | Approve.
2023-002-001 | 2024-FBI-02-0370 | Approve with changes.
2023-002-001 | 2024-FBI-02-0371 through 2024-FBI-02-0378 | Approve.
2023-002-001 | 2024-FBI-02-0379 | Reject.
2023-002-001 | 2024-FBI-02-0380 through 2024-FBI-02-0388 | Approve.
2023-002-001 | 2024-FBI-02-0389 through 2024-FBI-02-0391 | Reject.
2023-002-001 | 2024-FBI-02-0392 through 2024-FBI-02-0397 | Approve.
2023-002-001 | 2024-FBI-02-0398 | Reject.
2023-002-001 | 2024-FBI-02-0399 through 2024-FBI-02-0401 | Approve.
2023-002-001 | 2024-FBI-02-0402 and 2024-FBI-02-0403 | Reject.
2023-002-001 | 2024-FBI-02-0404 | Approve.
2023-002-001 | 2024-FBI-02-0405 through 2024-FBI-02-0410 | Reject.
2023-002-001 | 2024-FBI-02-0411 | Approve.
2023-002-001 | 2024-FBI-02-0412 through 2024-FBI-02-0417 | Reject.
2023-002-001 | 2024-FBI-02-0418 | Approve.
2023-002-001 | 2024-FBI-02-0419 and 2024-FBI-02-0420 | Reject.
2023-002-001 | 2024-FBI-02-0421 | Approve.
2023-002-001 | 2024-FBI-02-0422 through 2024-FBI-02-0425 | Reject.
2023-002-001 | 2024-FBI-02-0426 through 2024-FBI-02-0428 | Approve.
2023-002-001 | 2024-FBI-02-0429 and 2024-FBI-02-0430 | Reject.
2023-002-001 | 2024-FBI-02-0431 through 2024-FBI-02-0434 | Approve.
2023-002-001 | 2024-FBI-02-0435 | Reject.
2023-002-001 | 2024-FBI-02-0436 through 2024-FBI-02-0441 | Approve.
2023-002-001 | 2024-FBI-02-0442 | Reject.
2023-002-001 | 2024-FBI-02-0443 | Approve.
2023-002-001 | 2024-FBI-02-0444 | Reject.
2023-002-001 | 2024-FBI-02-0445 through 2024-FBI-02-0457 | Approve.
2023-002-001 | 2024-FBI-02-0458 | Reject.
2023-002-001 | 2024-FBI-02-0459 through 2024-FBI-02-0461 | Approve.
2023-002-001 | 2024-FBI-02-0462 | Reject.
2023-002-001 | 2024-FBI-02-0463 and 2024-FBI-02-0464 | Approve.
2023-002-001 | 2024-FBI-02-0465 | Reject.
2023-002-001 | 2024-FBI-02-0466 | Approve.
2023-002-001 | 2024-FBI-02-0467 and 2024-FBI-02-0468 | Reject.
2023-002-001 | 2024-FBI-02-0469 and 2024-FBI-02-0470 | Approve.
2023-002-001 | 2024-FBI-02-0471 | Reject.
2023-002-001 | 2024-FBI-02-0472 | Approve.
2023-002-001 | 2024-FBI-02-0473 | Approve with changes.
2023-002-001 | 2024-FBI-02-0474 and 2024-FBI-02-0475 | Approve.
2023-002-001 | 2024-FBI-02-0476 | Reject.
2023-002-001 | 2024-FBI-02-0477 | Approve.
2023-002-001 | 2024-FBI-02-0478 | Reject.
2023-002-001 | 2024-FBI-02-0479 and 2024-FBI-02-0480 | Approve.
2023-002-001 | 2024-FBI-02-0481 and 2024-FBI-02-0482 | Reject.
2023-002-001 | 2024-FBI-02-0483 | Approve.
2023-002-001 | 2024-FBI-02-0484 | Approve with changes.
2023-002-001 | 2024-FBI-02-0485 | Reject.
2023-002-001 | 2024-FBI-02-0486 and 2024-FBI-02-0487 | Approve.
2023-002-001 | 2024-FBI-02-0488 | Reject.
2023-002-001 | 2024-FBI-02-0489 | Approve.
2023-002-001 | 2024-FBI-02-0490 | Reject.
2023-002-001 | 2024-FBI-02-0491 through 2024-FBI-02-0493 | Approve.
2023-002-001 | 2024-FBI-02-0494 | Reject.
2023-002-001 | 2024-FBI-02-0495 | Approve.
2023-002-001 | 2024-FBI-02-0496 | Reject.
2023-002-001 | 2024-FBI-02-0497 | Approve with changes.
2023-002-001 | 2024-FBI-02-0498 and 2024-FBI-02-0499 | Approve.
2023-002-001 | 2024-FBI-02-0500 | Reject.
2023-002-001 | 2024-FBI-02-0501 | Approve.
2023-002-001 | 2024-FBI-02-0502 and 2024-FBI-02-0503 | Approve with changes.
2023-002-001 | 2024-FBI-02-0504 through 2024-FBI-02-0509 | Approve.
2023-002-001 | 2024-FBI-02-0510 through 2024-FBI-02-0516 | Reject.
2023-002-001 | 2024-FBI-02-0517 through 2024-FBI-02-0519 | Approve.
2023-002-001 | 2024-FBI-02-0520 | Approve with changes.
2023-002-001 | 2024-FBI-02-0521 | Approve.
2023-002-001 | 2024-FBI-02-0522 and 2024-FBI-02-0523 | Reject.
2023-002-001 | 2024-FBI-02-0524 through 2024-FBI-02-0527 | Approve.
2023-002-001 | 2024-FBI-02-0528 and 2024-FBI-02-0529 | Reject.
2023-002-001 | 2024-FBI-02-0530 and 2024-FBI-02-0531 | Approve.
2023-002-001 | 2024-FBI-02-0532 | Approve with changes.
2023-002-001 | 2024-FBI-02-0533 | Approve.
2023-002-001 | 2024-FBI-02-0534 and 2024-FBI-02-0535 | Approve with changes.
2023-002-001 | 2024-FBI-02-0536 and 2024-FBI-02-0537 | Approve.
2023-002-001 | 2024-FBI-02-0538 | Reject.
2023-002-001 | 2024-FBI-02-0539 through 2024-FBI-02-0545 | Approve.
2023-002-001 | 2024-FBI-02-0546 | Reject.
2023-002-001 | 2024-FBI-02-0547 | Approve.
2023-002-001 | 2024-FBI-02-0548 | Approve with changes.
2023-002-001 | 2024-FBI-02-0549 through 2024-FBI-02-0551 | Approve.
2023-002-001 | 2024-FBI-02-0552 and 2024-FBI-02-0553 | Reject.
2023-002-001 | 2024-FBI-02-0554 through 2024-FBI-02-0556 | Approve.
2023-002-001 | 2024-FBI-02-0557 | Approve with changes.
2023-002-001 | 2024-FBI-02-0558 through 2024-FBI-02-0567 | Approve.
2023-002-001 | 2024-FBI-02-0568 | Reject.
2023-002-001 | 2024-FBI-02-0569 through 2024-FBI-02-0578 | Approve.
2023-002-001 | 2024-FBI-02-0579 through 2024-FBI-02-0581 | Reject.
2023-002-001 | 2024-FBI-02-0582 through 2024-FBI-02-0585 | Approve.
2023-002-001 | 2024-FBI-02-0586 | Reject.
2023-002-001 | 2024-FBI-02-0587 through 2024-FBI-02-0589 | Approve.
2023-002-001 | 2024-FBI-02-0590 and 2024-FBI-02-0591 | Reject.
2023-002-001 | 2024-FBI-02-0592 | Approve.
2023-002-001 | 2024-FBI-02-0593 through 2024-FBI-02-0597 | Reject.
2023-002-001 | 2024-FBI-02-0598 | Approve.
2023-002-001 | 2024-FBI-02-0599 through 2024-FBI-02-0601 | Reject.
2023-002-001 | 2024-FBI-02-0602 | Approve.

Authority: Pub. L. 115-426, 132 Stat. 5489 (44 U.S.C. 2107).

Dated: February 7, 2025.
Stephannie Oriabure,
Chief of Staff.

[FR Doc. 2025-02522 Filed 2-11-25; 8:45 am]

BILLING CODE 6820-SY-P